NUCLEAR REGULATORY COMMISSION

[Docket Nos. 52-018 and 52-019; NRC-2008-0170]

Duke Energy Carolinas, LLC; William States Lee III Nuclear Station Units 1 and 2

AGENCY: Nuclear Regulatory Commission.

ACTION: Combined licenses and record of decision; issuance.

SUMMARY: The U.S. Nuclear Regulatory Commission (NRC) has issued combined licenses (Nos. NPF-101 and NPF-102) to Duke Energy Carolinas, LLC (DEC) William States Lee III Nuclear Station Units 1 and 2. In addition, the NRC has prepared a Summary Record of Decision (ROD) that supports the NRC's decision to issue the above-named combined licenses.

DATES: Combined licenses NPF-101 and NPF-102 became effective on December 19, 2016.

ADDRESSES: Please refer to Docket ID NRC-2008-0170 when contacting the NRC about the availability of information regarding this document. You may obtain publicly-available information related to this document using any of the following methods:

• Federal Rulemaking Web site: Go to http://www.regulations.gov and search for Docket ID NRC-2008-0170. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Brian Hughes, telephone: 301- 415-6582, email: Brian.Hughes@nrc.gov regarding safety matters; or Patricia Vokoun, telephone: 301-415-3470, email: Patricia.Vokoun@nrc.gov regarding environmental matters. Both are staff of the Office of New Reactors, U.S. Nuclear Regulatory Commission, Washington DC 20555-0001.

SUPPLEMENTARY INFORMATION:

I. Introduction

Under section 2.106 of title 10 of the Code of Federal Regulations (10 CFR), the NRC is providing notice of the issuance of combined licenses NPF-101 and NPF-102 to DEC, and under 10 CFR 50.102(c), the NRC is providing notice of the Commission's Memorandum and Order documenting its final decision on the uncontested hearing, which serves as the ROD in this proceeding. With respect to the application for combined licenses filed by DEC, the NRC finds that the applicable standards and requirements of the Atomic Energy Act of 1954, as amended, (AEA) and the Commission's regulations have been met. The NRC finds that any required notifications to other agencies or bodies have been duly made and that there is reasonable assurance that the facilities will be constructed and will operate in conformity with the license, the provisions of the AEA, and the Commission's regulations. Furthermore, the NRC finds that DEC is technically and financially qualified to engage in the activities authorized, and that issuance of the licenses will not be inimical to the common defense and security or to the health and safety of the public. Finally, the NRC has determined that the findings required by subpart A of 10 CFR part 51 have been made.

Accordingly, the combined licenses were issued on December 19, 2016, and became effective immediately.

II. Further Information

The NRC has prepared a Final Safety Evaluation Report (FSER) and Final Environmental Impact Statement (FEIS) that document the information reviewed and the NRC's conclusion. The Commission has also issued its Memorandum and Order documenting its final decision on the uncontested hearing held on October 5, 2016, which serves as the ROD in this proceeding. The NRC also prepared a document summarizing the ROD to accompany its actions on the combined license application; this “Summary ROD” incorporates by reference materials contained in the FEIS. The FSER, FEIS, Summary ROD, and accompanying documentation included in the combined license package, as well as the Commission's hearing decision and ROD, are available online in the ADAMS Public Document collection at http://www.nrc.gov/reading-rm/adams.html. From this site, persons can access the NRC's ADAMS, which provides text and image files of NRC's public documents.

The ADAMS accession numbers for the documents related to this notice are listed below.

III. Availability of Documents

The documents identified in the following table are available to interested persons through the ADAMS Public Documents collection. A copy of the combined license application is also available for public inspection at the NRC's PDR and at http://www.nrc.gov/reactors/new-reactors/col.html.

Document | Adams Accession No.
Final Safety Evaluation Report for Combined Licenses for Lee Units 1 and 2 | ML16160A414
Reader's Guide Final Environmental Impact Statement for Combined Licenses for Lee Units 1 and 2 | ML13352A015 ML13340A005 (Volume 1) ML13340A006 (Volume 2) ML13340A007 (Volume 3)
Commission's Memorandum and Order on the uncontested hearing (Record of Decision) | ML16350A070
Summary Record of Decision | ML16277A243
Letter transmitting Combined Licenses Nos. NPF-101 and NPF-102 and accompanying documentation | ML16354A256
Combined Licenses Nos. NPF-101 and NPF-102 | ML16333A329 (Unit 1) ML16333A331 (Unit 2)

Dated at Rockville, Maryland, this 22nd day of December 2016.
For the Nuclear Regulatory Commission.
Francis M. Akstulewicz,
Director, Division of New Reactor Licensing, Office of New Reactors.

[FR Doc. 2016-31814 Filed 12-30-16; 8:45 am]

BILLING CODE 7590-01-P